DEPARTMENT OF JUSTICE

Notice of Lodging of Proposed Amendment to Consent Decree Under the Comprehensive Environmental Response, Compensation, and Liability Act

On March 30, 2021, the Department of Justice lodged a proposed amendment to a Consent Decree with the United States District Court for the Eastern District of Virginia in United States v. Reynolds Metals Company, et al., Civil Case No. 3:97-cv-00226 (E.D. Va.).

The original Consent Decree was entered on November 5, 1997, and resolved civil claims under the Comprehensive Environmental Response, Compensation, and Liability Act at the HH, Inc. Superfund site (“Site”). The Consent Decree, as amended, required reimbursement of costs incurred by the EPA and the United States Department of Justice for response actions at the Site by the Original Settling Parties, as well as performance of studies and response work at the site consistent with the National Contingency Plan, 40 CFR part 300 (as amended) (“NCP”).

The parties to the Consent Decree have agreed to certain modifications set forth in an amendment to the Decree. The amendment provides for the incorporation of EPA's Record of Decision Amendment relating to the Site signed on May 26, 2020 (“2020 ROD Amendment”), which modifies the groundwater portion of the Selected Remedy at the Site. Previously, a High Vacuum Extraction (“HVE”) system was used to extract and treat groundwater at the Site. In 2011, with EPA approval, the system was shut down due to diminishing containment recovery rates. The modified Selected Remedy replaces the HVE system with Enhanced Bioremediation (EB), a system which EPA has determined is both more cost-effective and will take a shorter amount of time to extract contaminants from the groundwater.

The publication of this notice opens a period for public comment on the proposed modifications to the Consent Decree. Comments should be addressed to the Assistant Attorney General, Environment and Natural Resources Division, and should refer to United States v. Reynolds Metals Company, et al., DJ# 90-11-3-1408, Civil Case No. 3:97-cv-00226 (E.D. Va.). All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amendments to the Consent Decree may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $2.50 (25 cents per page reproduction cost) payable to the United States Treasury.

Jeffrey Sands,
Assistant Section Chief, Environmental Enforcement Section, Environment and Natural Resources Division.

[FR Doc. 2021-07001 Filed 4-5-21; 8:45 am]

BILLING CODE 4410-15-P